DEPARTMENT OF COMMERCE

International Trade Administration

[A-427-098]

Anhydrous Sodium Metasilicate from France: Final Results of Antidumping Duty Administrative Review

AGENCY: Import Administration, International Trade Administration, Department of Commerce.

ACTION: Notice of Final Results of Antidumping Duty Administrative Review.

SUMMARY: On July 28, 2003, the Department of Commerce published the preliminary results of the administrative review of the antidumping duty order on anhydrous sodium metasilicate from France. The period of review is January 1, 2002, through December 31, 2002. This review covers imports of anhydrous sodium metasilicate from one producer/exporter, Rhodia HPCII. We provided interested parties with an opportunity to comment on the preliminary results of this review, but we received no comments.

Furthermore, the Department made no changes in its analysis following the publication of the preliminary results. Therefore, the final results of review are unchanged from those presented in the preliminary result of review.

EFFECTIVE DATE: October 21, 2003.

FOR FURTHER INFORMATION CONTACT: Susan Lehman or Richard Rimlinger, AD/CVD Enforcement Group I, Office 3, Import Administration, International Trade Administration, U.S. Department of Commerce, 14th Street and Constitution Avenue, N.W., Washington, D.C. 20230; telephone: 202-482-0180 or 202-482-4477, respectively.

SUPPLEMENTARY INFORMATION:

Background

On July 28, 2003, the Department of Commerce (the Department) published in the Federal Register the preliminary results of its administrative review of the antidumping duty order on anhydrous sodium metasilicate (ASM) from France. See Anhydrous Sodium Metasilicate from France: Preliminary Results of Antidumping Duty Administrative Review, 68 FR 44283 (Preliminary Results). We invited parties to comment on the Preliminary Results, but we received no comments. We have now completed the administrative review in accordance with section 751(a) of the Tariff Act of 1930, as amended (the Act).

Scope of Order

Imports covered by the review are shipments of ASM, a crystallized silicate which is alkaline and readily soluble in water. Applications include waste paper de-inking, ore-flotation, bleach stabilization, clay processing, medium or heavy duty cleaning, and compounding into other detergent formulations. This merchandise is classified under Harmonized Tariff Schedules of the United States (HTSUS) item numbers 2839.11.00 and 2839.19.00. The HTSUS item numbers are provided for convenience and customs purposes. The written description remains dispositive.

Period of Review

The period of review is from January 1, 2002, through December 31, 2002.

Facts Available

As discussed in detail in the Preliminary Results, we have determined to use facts otherwise available for Rhodia HPCII (Rhodia), which did not respond timely to our requests for information.

Final Results of the Review

As a result of our determination that it is appropriate to apply adverse facts available to Rhodia, we determine that the weighted-average dumping margin of 60.00 percent exists for Rhodia for the period of January 1, 2002, through December 31, 2002. The Department will issue appropriate assessment instructions directly to Customs within 15 days of publication of these final results of review. We will direct the U.S. Bureau of Customs and Border Protection (Customs) to assess the assessment rate against the entered customs values for the subject merchandise on each entry during the review period.

Cash-Deposit Requirements

The following deposit requirements will be effective upon publication of this notice of final results of administrative review for all shipments of the subject merchandise entered, or withdrawn from warehouse, for the consumption on or after publication, as provided by section 751(a)(1) of the Act: (1) the cash-deposit rate for Rhodia will be 60.00 percent; (2) for previously reviewed or investigated companies not listed above, the cash deposit will continue to be the company-specific rate published for the most recent period; (3) if the exporter is not a firm covered in this review, a prior review, or the original less-than-fair-value (LTFV) investigation, but the manufacturer is, the cash-deposit rate will be the rate established for the most recent period for the manufacturer of the merchandise; and (4) for all other producers and/or exporters of this merchandise, the cash-deposit rate shall be 60.00 percent, the “all others” rate established in the LTFV investigation (45 FR 77498, November 24, 1980).

These deposit requirements shall remain in effect until publication of the final results of the next administrative review.

Notification of Interested Parties

This notice also serves as the only reminder to parties subject to the administrative protective order (APO) of their responsibility concerning the disposition of proprietary information disclosed under APO in accordance with 19 CFR 351.305(a)(3). Timely written notification of return/destruction of APO material or conversion to judicial protective order is hereby requested. Failure to comply with the regulation and the terms of an APO is a sanctionable violation.

Furthermore, pursuant to 19 CFR 351.402(f)(2), this notice serves as a final reminder to importers of their responsibility to file a certificate regarding the reimbursement of antidumping duties prior to liquidation of the relevant entries during this review period. Failure to comply with this requirement could result in the Secretary's presumption that reimbursement of antidumping duties occurred an the subsequent assessment of double antidumping duties.

We are issuing and publishing these results in accordance with sections 751(a)(1) and 771(i)(1) of the Act.

Dated: October 14, 2003.
James J. Jochum,
Assistant Secretary for Import Administration.

[FR Doc. 03-26535 Filed 10-20-03; 8:45 am]

BILLING CODE 3510-DS-S